DEPARTMENT OF HEALTH AND HUMAN SERVICES

Administration for Children and Families

Submission for Office of Management and Budget Review; Legal and Advocacy Services for Unaccompanied Children (Office of Management and Budget #0970-0565)

AGENCY: Office of Refugee Resettlement, Administration for Children and Families, U.S. Department of Health and Human Services.

ACTION: Request for public comments.

SUMMARY: The Office of Refugee Resettlement (ORR), Administration for Children and Families (ACF), U.S. Department of Health and Human Services is inviting public comment on revisions to an approved information collection. The request consists of several forms that allow the Unaccompanied Children (UC) Program to provide legal and advocacy services to unaccompanied children.

DATES: Comments due November 25, 2024. The Office of Management and Budget (OMB) must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: This request is to remove five forms from this collection, add two new forms, move two forms from a different information collection into this collection (with revisions to one of those forms), and revise three existing forms in this collection. ORR also proposes retitling this information collection “Legal and Advocacy Services for Unaccompanied Children.”

Discontinued Forms

ORR plans to remove the following forms from this information collection:

1. Request for a Flores Bond Hearing (Form LRG-7), Motion to Request a Bond Hearing—Secure or Staff Secure Custody (Form LRG-8A), and Motion to Request a Bond Hearing—Non-Secure Custody (Form LRG-8B): The bond hearing process was replaced with a Risk Determination Hearing process under the UC Program Foundational Rule, 45 CFR 410. These forms were replaced with a new set of form specific to the RDH process, approved under OMB #0970-0633.

2. Motion for Change of Venue (Form L-7): This instrument was created for the UC Path case management system and was intended to be used for filing a motion for change of venue for children transferring to a different ORR care provider program. However, the UC Path system was never implemented, and this form has never been used. In addition, this function is performed by an entity that is party to the proceedings, typically the child's legal representative or Immigration and Customs Enforcement, because the decision to file a change of venue may affect the child's immigration case. A change of venue is filed for cases where a Notice to Appear has been filed. Since neither ORR nor its care provider programs perform this function, the form is not needed.

3. Post Legal Status Plan (Form L-8): The information collected in this form was incorporated into the Legal Services Plan section of the Category 4 Discharge Plan (Form R-9, currently approved under OMB #0970-0552). Therefore, ORR plans to discontinue this form.

New Forms

ORR plans to add the following new forms to this information collection:

1. Case Status Summary for Executive Office for Immigration Review (Form L-9): This form is completed by the Federal Field Specialist (FFS)or care provider and sent to the Executive Office for Immigration Review (EOIR) in advance of a child's immigration hearing. The form provides basic information needed to ensure that EOIR has accurate information on the child's case status. A copy of the form is also shared with the child's legal service provider or attorney of record and child advocate (if applicable).

2. Recommended States List (Form L-11): This form is completed by legal service providers for children transferring to a long-term foster care (LTFC) placement. The form provides a recommended list of preferred placement locations recommended by the legal service provider (LSP) based on the child's potential for immigration relief in each state, type of immigration relief, and status of court hearings or relief petitions. The LSP's recommendation is one of several factors ORR considers when making an LTFC placement determination.

Forms Transferred From a Different Information Collection

1. ORR plans to transfer the “Notice of Administrative Review (Form P-18)” into this information collection without revisions. This form is currently approved under OMB #0970-0554.

2. ORR plans to transfer the “Child Advocate Recommendation and Appointment” form into this information collection (currently approved under OMB #0970-0553). The currently approved version has been revised to move Section B: Recommendation and Appointment and Section C: ORR Approval into a separate form to better facilitate the referral, recommendation, and appointment process. The separate form containing the information collected in Sections B and C will be completed by fewer than 10 respondents and is, therefore, not subject to Paperwork Reduction Act and is not included in this request.

Additionally, ORR proposes the following revisions to assist its child advocate contractor in supporting referred children and making recommendations. ORR worked directly with the contractor to improve the form and incorporated recommendations the contractor submitted via public comment.

1. Rename the form “Child Advocate Referral” (Form L-12A).

2. Replace “UC” with “child” throughout the form.

3. Add fields for the Title, Email, and Phone Number of the referrer.

4. Make the following revisions related to the child's biographic information:

○ Split the field to for the name of the child into three separate fields for First Name, Second, or Middle Name, and Last Name(s)

○ Add fields for Also Known As (AKA) and Nicknames or Preferred Names

○ Change the Gender field from an open text field to a dropdown field with options for Male, Female, and Nonbinary.

○ Add a field for Other Language(s) Spoken

5. Add the following fields related to the child's entry into the United States:

○ U.S. Port of Entry Where Child Entered

○ Date of Apprehension by DHS

6. Make the following revisions related to the child's placement:

○ Reword the Care Provider field to Current Care Provider Facility

○ Reword the Admission Date field to Provider Admission Date

○ Add the following fields:

Is the child in ORR custody?

Was the child at another ORR care provider facility?

If yes, provide the care provider facility name(s)

Add a field for Date of Entry into ORR Custody

Child's Length of Care in ORR Custody

7. Add the following fields related to the child's sponsor:

○ Does the child have a sponsor?

○ If yes, what category has ORR assigned to this sponsor?

○ How many potential sponsors has the child had?

8. Add the following fields related to the child's legal representation:

○ Does the child have legal representation?

○ If yes, provide the following information for the legal representative: Name, Phone, Email

9. Revise the list of reasons for referral to better reflect the most common reasons child advocate referrals are made.

10. Add a text box where referrers can provide additional details regarding the reason for referral.

11. Revise the burden estimate to reflect the number of child advocate referrals made from April 2023 through March 2024. The annual number of respondents increased from 216 to 300 and the annual number of responses per respondent increased from 5 to 19.

Revisions to Existing Forms

ORR plans to make the following revisions to existing forms in this information collection:

1. Request for Specific Consent to Juvenile Court Jurisdiction (Form L-1):

○ Replace “UC” with “child” throughout the form

○ Update language in the form's introductory text and Section D: Next Steps to align with the UC Program Foundational Rule (45 CFR 410).

○ Reword the Name of Intended Guardian field to Name of Intended Individual or Entity to be Granted Custody to account for the fact that not all states use the word “guardian” to describe an individual or entity granted legal custody of a child. Revision is responsive to public comments.

○ Revise the burden estimate to reflect the number of requests for specific consent received in FY 2023. The annual number of respondents decreased from 40 to 31.

2. Specific Consent Request Case Summary (Form L-2):

○ Remove the instruction to complete an internal clearance form because that is no longer part of the process.

○ Update the email address where the form is submitted.

○ Add text fields for the email addresses of the case manager and FFS to better facilitate communication when UC Bureau headquarter staff have follow-up questions.

○ Replace “UC” with “child” throughout the form

○ Revise the available dropdown options for the Level of Care field to align with the UC Program Foundational Rule (45 CFR 410).

○ Change the Gender field from an open text field to a dropdown field with options for Male, Female, and Nonbinary.

○ Remove question 3 (If the child was released from ORR custody into the new custody situation, would there be any risk of escape?) and the mention of “flight risk” in Section C to align with the UC Program Foundational Rule. Revision is responsive to public comments.

○ Revise the burden estimate to reflect the number of case summaries completed in FY 2023 and account for an increase in the number of care provider facilities. The annual number of respondents increased from 216 to 300 and the annual number of responses per respondent decreased from 0.2 to 0.1.

3. Acknowledgement of Receipt of Legal Resource Guide (Form LRG-4):

○ Change form number from LRG-5 to LRG-4

○ Retitle form “Acknowledgement of Receipt of Legal Resource Guide” (formerly titled “Legal Service Provider List for UC in ORR Care”)

○ Remove the information provided on the first page and the list of legal service providers and their contact information. ORR plans to incorporate this information into a separate document and children will acknowledge receipt of that document in this form.

○ Revise the list of documents provided to children to reflect forthcoming revisions and consolidation of legal resource guide documents.

○ Remove requirement for children to initial each list item to reduce burden for the child.

○ Add instructions to put an “X” in the signature line in cases where the child is unable to sign the form and add a text field for the care provider to document the reason the child was unable to sign (e.g., child is two years old). This will assist ORR in monitoring compliance with requirements to complete this form.

○ Add a field for care provider program name.

○ Revise the burden estimate to account for an increase in the number of care provider facilities and in the number of children placed in ORR care, and report the burden for care providers and unaccompanied children separately to improve accuracy of the estimate. The annual number of respondents increased from 216 to 300 for care providers and 121,669 unaccompanied child respondents were added. The annual number of responses per respondent increased from 556 to 817 for care providers and the responses per respondent for children is two (2).

○ ORR plans to translate the form into Spanish and other languages commonly spoken by unaccompanied children.

Revisions to Burden Estimates Only for Existing Forms

1. Notice of Attorney Representation (Form L-3):

○ Previously, the annual number of respondents was overestimated at 13,000. ORR is changing that estimate to 10,000 (which will still be higher than the number of forms submitted in the previous year) based on the actual number of children who received direct representation through ORR's legal service provider contractor and rounded up to account for an expected increase in direct representation and forms submitted by outside attorneys.

2. UC Legal Information (Form L-4):

○ Revise the burden estimate to account for an increase in the number of care provider facilities and in the number of children placed in ORR care. The annual number of respondents increased from 216 to 300 and the annual number of responses per respondent increased from 241 to 406.

3. Legal Service Provider Record (Form L-6):

○ Revise the burden estimate to account for an increase in the number of care provider facilities and in the number of children placed in ORR care. The annual number of respondents increased from 216 to 300 and the annual number of responses per respondent increased from 241 to 406.

Respondents: ORR grantee and contractor staff, unaccompanied children, parents/legal guardians of unaccompanied children, attorneys of record and legal service providers

Annual Burden Estimates:

Instrument | Annual number of respondents | Number of responses per respondent | Average burden hours per response | Annual total burden hours
Request for Specific Consent to Juvenile Court Jurisdiction (Form L-1) | 31 | 1.0 | 0.25 | 8
Specific Consent Request Case Summary (Form L-2) | 300 | 0.1 | 0.33 | 10
Notice of Attorney Representation (Form L-3A) | 5,000 | 1.0 | 0.25 | 1,250
Notice of Legal Service Provider Screening (Form L-3B) | 5,000 | 1.0 | 0.17 | 850
UC Legal Information (Form L-4) | 300 | 406.0 | 1.00 | 121,800
Legal Service Provider Record (Form L-6) | 300 | 406.0 | 0.08 | 9,744
Case Status Summary for Executive Office of Immigration Review (Form L-9) | 300 | 5.0 | 0.17 | 255
Recommended States List (Form L-11) | 60 | 10.0 | 0.33 | 198
Child Advocate Referral (Form L-12A)-Respondents | 300 | 19.0 | 0.25 | 1,425
Child Advocate Referral (Form L-12A)-Recordkeepers | 1 | 5,601.0 | 0.33 | 1,848
Acknowledgment of Receipt of Legal Resource Guide (LRG-4)-Unaccompanied Children | 121,669 | 2.0 | 0.25 | 60,835
Acknowledgment of Receipt of Legal Resource Guide (LRG-4)-Care Providers | 300 | 817.0 | 0.25 | 61,275
Notice of Administrative Review (Form P-18) | 200 | 1.0 | .83 | 166
Estimated Annual Burden Hours Total |  |  |  | 259,664

Authority: 6 U.S.C. 279; 8 U.S.C. 1232; Flores v. Reno Settlement Agreement, No. CV85-4544-RJK (C.D. Cal. 1996).

Mary C. Jones,
ACF/OPRE Certifying Officer.

[FR Doc. 2024-24588 Filed 10-23-24; 8:45 am]

BILLING CODE 4184-45-P